CONSUMER PRODUCT SAFETY COMMISSION

[Docket No. CPSC-2023-0009]

Request for Information on Chronic Hazards Associated With Gas Ranges and Proposed Solutions

AGENCY: Consumer Product Safety Commission.

ACTION: Notice of request for information.

SUMMARY: The Consumer Product Safety Commission (Commission or CPSC) is publishing this notice to request information on chronic hazards associated with gas ranges and proposed solutions to those hazards.

DATES: Written comments must be submitted by May 8, 2023.

ADDRESSES: You can submit comments, identified by Docket No. CPSC-2023-0009, by any of the following methods:

Electronic Submissions: Submit electronic comments to www.regulations.gov. Follow the instructions for submitting comments. Do not submit through this website: confidential business information, trade secret information, or other sensitive or protected information that you do not want to be available to the public. CPSC typically does not accept comments submitted by email, except as described below.

Mail/Hand Delivery/Courier/Confidential Written Submissions: CPSC encourages you to submit electronic comments by using www.regulations.gov. You may, however, submit comments by mail, hand delivery, or courier to: Office of the Secretary, Consumer Product Safety Commission, 4330 East West Highway, Bethesda, MD 20814; telephone: (301) 504-7479.

Instructions: All submissions must include the agency name and docket number. CPSC may post all comments without change, including any personal identifiers, contact information, or other personal information provided to www.regulations.gov. If you wish to submit confidential business information, trade secret information, or other sensitive or protected information that you do not want to be available to the public, you may submit such comments by mail, hand delivery, or courier, or you may email them to: cpsc-os@cpsc.gov.

Docket: For access to the docket to read background documents or comments received, go to www.regulations.gov, and insert the docket number, CPSC-2023-0009, into the “Search” box, and follow the prompts.

I. Background

Gas ranges are large residential appliances used to cook food, where the energy needed to heat the food is generated by the burning of a gas fuel such as natural gas or liquefied petroleum gas (LPG).¹ Gas ranges are also sometimes referred to as, or include, gas stoves, gas cooktops, gas stovetops, and gas ovens.

¹ LPG contains a mix of flammable simple hydrocarbon gases, primarily propane but also butane, isobutane, propylene, and butylene.

This request for information (RFI) ² seeks input from the public on chronic chemical hazards from gas ranges. Chemical hazards result in acute (short-term) or chronic (long-term) adverse health outcomes resulting from exposures to chemical substances. This RFI does not cover non-chemical (i.e., fire, electrical mechanical) hazards, except as relevant to chemical hazard issues such as solutions and potential trade-offs, nor does it cover acute chemical hazards (e.g., carbon monoxide (CO) poisoning). This RFI does not constitute or propose regulatory action, but rather is intended to inform the Commission and the public.

² The Commission voted 3-1 to approve publication of this notice. Chair Hoehn-Saric, Commissioners Trumka and Boyle voted to approve publication of the notice as drafted. Commissioner Feldman voted to not approve publication of the notice. Commissioner Trumka issued a statement in connection with his vote available at: https://www.cpsc.gov/s3fs-public/RCA-Draft-Federal-Register-Notice-Request-for-information-on-chronic-hazards-associated-with-gas-ranges-and-proposed-solutions.pdf?VersionId=_t7VvFidNZttG3UoRVYuwJEVxioilrtS.

II. Information Requested

CPSC is requesting information from all stakeholders such as consumers, manufacturers, government agencies, non-governmental organizations, and researchers on chronic chemical hazards associated with the use of gas ranges, and proposed solutions. The Commission seeks comment on all significant aspects of this issue, including but not limited to the following questions.

Question 1: Please provide information related to the scope and scale of potential chronic chemical hazards, exposures, and risks associated with gas range use.

(a) Please provide information related to habits and practices surrounding consumers' use of gas ranges in residential settings. How many U.S. homes have gas ranges? What is the duration of gas range usage per cooking event, per day (i.e., minutes to hours)? How many days per week/year is a gas range used? Provide information on infrequent, high-end usage events such as using the oven-cleaning cycle or preparing for large holiday gatherings.

(b) Please provide information on related (non-cookware) products used in conjunction with gas ranges and their frequency of use. Examples of related products of interest are range hoods (in general), CO alarms, smoke alarms, chemical sensors other than CO, portable air filters, etc.

(c) Please provide information on the naming/definition, requirements for, frequency of use, and performance of different kinds of range hoods (i.e., external venting, recirculating, wall-mounted canopy, under-cabinet, microwave/combo, island/ceiling, or retractable downdraft, etc.).

(d) Please provide information on the frequency of occurrence of reported gas leaks associated with gas range defects or related equipment or installation defects.

(e) Please provide details on chronic chemical hazards associated with gas range use. Specify the nature of the chronic chemical hazard, the brand of gas range (if available), and additional context for settings and conditions related to exposures if available.

(f) Please provide any additional information not requested above related to the scale and scope of potential chronic chemical hazards associated with gas range use.

Question 2: Please provide information related to data sources and approaches CPSC should consider when completing an evaluation of chronic chemical hazards, exposures, and risks related to gas range use.

(a) Please provide product testing information or studies that describe the emissions of chemical substances from gas ranges over time, including average and peak levels where available. Provide supporting information on sampling and analytical methods. Examples of such information include environmental conditions, and other material test information for laboratory-based environmental chamber testing and field-based testing in a representative home environment, such as temperature, humidity, chamber ventilation, heating, ventilation, air conditioning (HVAC), leakage in and out of the chamber or home, mixing characteristics, chamber and/or representative home dimensions and characteristics, emissions measurements, measurement methods, computer modeling, post processing methods, product use variations, sample locations, fuel pressure, and fuel composition.

(b) Please provide product testing information or studies characterizing differences in product performance, design, or compliance over time and related impacts on emissions of chemical substances from the gas ranges. If available, provide supporting information on sampling and analytical methods. If available, identify the relevant product safety standard(s) the product met, with revision/edition (e.g., ANSI Z21.1-2000 or other international standards).

(c) Please provide product testing information that explores the impact that using different gas fuel sources has on emitted chemical substances. If available, provide supporting information on sampling and analytical methods.

(d) Please provide research that explores the relationship between emissions from gas ranges and indoor air quality. This includes experimental chamber or observational field studies that reflect environmental air monitoring of chemical substances during and after gas range use and/or modeled estimates of indoor air concentrations based on chamber emission data. If available, provide average and peak levels and supporting information on methods.

(e) Please provide studies that explore the relationship between the use, presence, or emissions from gas ranges and associated human health effects. This includes epidemiological studies that summarize exposures to gas ranges and observed health effects. If available, please provide test methods and raw data as well as the context and examples of the studies.

(f) Please provide summaries of completed or ongoing research that produces information that can be used to evaluate potential associations between elevated exposures or disparate health outcomes and usage of gas ranges over time for vulnerable populations.

(g) Please provide any additional information, not requested above, related to the data sources and approaches CPSC should consider when completing an evaluation of chronic chemical hazards related to gas range use.

Question 3: Please provide information on proposed solutions related to any chronic chemical hazards, exposures, and risks associated with gas range use.

(a) Please provide information related to potential tradeoffs between different hazards (i.e., chemical, fire, electrical, mechanical, or other) associated with the use of gas ranges, electric ranges (including older and newer models), and other large cooking appliances.

(b) Please provide information on existing solutions to reduce chronic chemical hazards associated with gas ranges and other large cooking appliances that have been developed but are not widely used throughout the market. Examples may include safety knobs, burner design, automatic or semi-automatic shut-off valves, or use of efficient externally vented range hoods. Where possible, please indicate cost estimates and why such solutions were not broadly adopted.

(c) Please provide information on technological advances that have been developed, or are underway, or could be developed in the future related to reducing chronic chemical hazards associated with gas ranges and other large cooking appliances (or related equipment) that are helpful for CPSC to consider for improving consumer safety and health. Please be specific and provide cost estimates where possible.

(d) Please provide information related to revision of voluntary standards for gas ranges. This includes data that would inform health-based emission limits for gas ranges. Such information would, for example, link robust and repeatable emissions testing data with estimated indoor air concentrations and toxicity reference values for CO, nitrogen dioxide, and fine particulate matter.

(e) Please provide information relating to the subject of mandatory standards for the sale of range hoods alongside gas ranges. Please provide information on what any such performance standards should be (e.g., efficiency of removal of emitted substances), and the costs and benefits of such requirements.

(f) Please provide information on the effectiveness of different range hoods for reducing emissions and associated indoor air concentrations in air surrounding gas ranges (i.e., personal breathing zone, room of use, etc.).

(g) Please provide information related to potential labeling for gas ranges that could provide information to educate consumers about potential hazards.

(h) Please provide information on indoor air quality (IAQ) in home environments, both related to and separate from gas ranges.

(a) Please provide information regarding inclusion, enforcement, and compliance to any requirements in building codes or other local or state laws or regulations for exhaust hoods (internally and externally vented) above or near gas ranges.

(j) Please provide information on the costs and effectiveness of any other relevant voluntary or mandatory standards (such as for gas ranges or exhaust hoods found in model building codes).

(k) Please provide any additional information related to chronic hazards associated with gas ranges and proposed solutions to those hazards that CPSC should consider, not requested above.

III. Confidentiality

If you wish to submit confidential information, please follow the instructions in the ADDRESSES section above.

Alberta E. Mills,
Secretary, Consumer Product Safety Commission.

[FR Doc. 2023-04554 Filed 3-6-23; 8:45 am]

BILLING CODE 6355-01-P